DEPARTMENT OF HOMELAND SECURITY

Coast Guard

33 CFR Part 117

[CGD08-07-025]

Drawbridge Operation Regulations; Charenton Drainage and Navigation Canal, Baldwin, LA

AGENCY: Coast Guard, DHS.

ACTION: Notice of temporary deviation from regulations.

SUMMARY: The Commander, Eighth Coast Guard District, has issued a temporary deviation from the regulation governing the operation of the BNSF Railway Company Swing Bridge across the Charenton Drainage and Navigational Canal, mile 0.4, at Baldwin, St. Mary Parish, LA. This deviation provides for the bridge to remain closed to navigation for 5 days with three hour openings each day to conduct maintenance repairs to the drawbridge.

DATES: This deviation is effective from 8 a.m. on October 22, 2007 through 8 p.m. on October 26, 2007.

ADDRESSES: Materials referred to in this document are available for inspection or copying at the office of the Eighth Coast Guard District, Bridge Administration Branch, Hale Boggs Federal Building, Room 1313, 500 Poydras Street, New Orleans, Louisiana 70130-3310 between 7 a.m. and 3 p.m., Monday through Friday, except Federal holidays. The telephone number is (504) 671-2128. The Bridge Administration Branch maintains the public docket for this temporary deviation.

FOR FURTHER INFORMATION CONTACT: Bart Marcules, Bridge Administration Branch, telephone (504) 671-2128.

SUPPLEMENTARY INFORMATION: The BNSF Railway Company has requested a temporary deviation in order to replace or repair a bent shaft, bearings, and housing that are integral to the safe operation of the swing bridge across the Charenton Drainage and Navigational Canal, mile 0.4, at Baldwin, St. Mary Parish, LA. This bridge opens on signal in accordance with 33 CFR 117.5, but this temporary deviation will allow the bridge to remain in the closed-to-navigation position from 8 a.m. on October 22, 2007 through 8 p.m. on October 26, 2007. BNSF will provide an opening from 8 a.m. till 11 a.m. every day starting October 23, 2007. An alternate route is available through the Berwick Locks. The bridge provides 10 feet of vertical clearance in the closed-to-navigation position. Navigation on the waterway consists of tugs with tows, fishing vessels and recreational craft including sailboats and powerboats. Due to prior experience, as well as coordination with waterway users, and an alternate route through Berwick Locks it has been determined that this closure will not have a significant effect on these vessels.

In accordance with 33 CFR 117.35(e), the drawbridge must return to its regular operating schedule immediately at the end of the designated time period. This deviation from the operating regulations is authorized under 33 CFR 117.35.

Dated: October 2, 2007.
David M. Frank,
Bridge Administrator.

[FR Doc. E7-20207 Filed 10-12-07; 8:45 am]

BILLING CODE 4910-15-P